DEPARTMENT OF HEALTH AND HUMAN SERVICES

National Institutes of Health

Center for Scientific Review; Amended Notice of Meeting

Notice is hereby given of a change in the meeting of the Hepatobiliary Pathophysiology Study, September 18, 2006, 8:30 a.m. to September 19, 2006, 4 p.m., Ritz Carlton Hotel, 1150 22nd Street, NW., Washington, DC 20037 which was published in the Federal Register on August 10, 2006, 71 FR 45844.

The meeting will be held at the Carlton Hotel Bethesda Park, 8400 Wisconsin Avenue, Bethesda, MD 20814. The meeting date and time remain the same. The meeting is closed to the public.

Dated: August 31, 2006.
Anna Snouffer,
Acting Director, Office of Federal Advisory Committee Policy.

[FR Doc. 06-7533 Filed 9-8-06; 8:45 am]

BILLING CODE 4140-01-M